DEPARTMENT OF HEALTH AND HUMAN SERVICES

Centers for Disease Control and Prevention

Disease, Disability, and Injury Prevention and Control Special Emphasis Panels (SEP): Initial Review

The meeting announced below concerns Monitoring Cause-Specific School Absenteeism for Estimating Community Wide Influenza Transmission, Funding Opportunity Announcement (FOA) CK13-003, initial review.

Correction

The notice was published in the Federal Register on February 28, 2013, Volume 78, Number 40, Page 13677. The meeting announced should read as follows:

Monitoring Cause-Specific School Absenteeism for Estimating Community Wide Influenza Transmission, FOA CK13-003, initial review.

Contact Person for More Information: Gregory Anderson, M.S., M.P.H., Scientific Review Officer, CDC, 1600 Clifton Road NE., Mailstop E60, Atlanta, Georgia 30333, Telephone: (404) 718-8833.

The Director, Management Analysis and Services Office, has been delegated the authority to sign Federal Register notices pertaining to announcements of meetings and other committee management activities, for both the Centers for Disease Control and Prevention and the Agency for Toxic Substances and Disease Registry.

Dana Redford,
Acting Director, Management Analysis and Services Office, Centers for Disease Control and Prevention.

[FR Doc. 2013-07438 Filed 3-29-13; 8:45 am]

BILLING CODE 4163-18-P